DEPARTMENT OF TRANSPORTATION

Federal Aviation Administration

14 CFR Part 39

[Docket No. FAA-2015-0084; Directorate Identifier 2014-NM-181-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A300 B4-2C, B4-103, and B4-203 airplanes; Airbus Model A300 B4-600 series airplanes; and Airbus Model A300 B4-600R series airplanes. This proposed AD was prompted by reports indicating that, on airplanes that received a certain repair following crack findings, cracks can re-initiate. This proposed AD would require repetitive inspections for cracking of the frame (FR) 40 forward fittings for airplanes previously repaired. We are proposing this AD to detect and correct cracking on the FR 40 forward fittings, which could result in rupture of the forward fittings and reduction of in-flight structural strength.

DATES: We must receive comments on this proposed AD by March 30, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0084; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2015-0084; Directorate Identifier 2014-NM-181-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2014-0199, dated September 05, 2014 (referred to after this as the Mandatory Continuing Airworthiness Information, or “the MCAI”), to correct an unsafe condition for certain Airbus Model A300 B4-2C, B4-103, and B4-203 airplanes; Airbus Model A300 B4-600 series airplanes; and Airbus Model A300 B4-600R series airplanes. The MCAI states:

During routine inspection on an A300-600 aeroplane, a crack was found in the right-hand frame (FR) 40 forward fitting between stringer (STRG) 32 and STRG 33. The subject aeroplane had previously been modified, as a crack prevention measure, in accordance with Airbus SB A300-57-6053 (mod 10453).

To ensure the structural integrity of FR 40, pending completion of the full root cause analysis using a refined Finite Element Model (FEM), EASA issued AD 2009-0094 [dated April 21, 2009, http://ad.easa.europa.eu/ad/2009-0094], to require, a one-time Detailed Visual Inspection (DVI) of A300 and A300-600 aeroplanes on which Airbus SB A300-53-0297 or SB A300-57-6053, as applicable, was embodied as a crack prevention measure.

Thereafter, cracks were found during maintenance check in the FR 40 forward fitting on two aeroplanes, one A300 with Airbus SB A300-53-0297 embodied and one A300-600 with Airbus SB A300-57-6053 embodied. EASA AD 2009-0094 had been accomplished on both aeroplanes.

Consequently, EASA issued AD 2011-0163 [dated August 30, 2011, http://ad.easa.europa.eu/ad/2011-0163], superseding EASA AD 2009-0094, to require, for aeroplanes modified preventively, repetitive DVI of the FR 40 forward fitting (without nut removal), accomplishment of a one-time Eddy Current (EC) inspection or liquid penetrant inspection of this area (with nut removal) and, depending on findings, the accomplishment of associated corrective actions.

A detailed FEM study was recently completed which demonstrated that, on aeroplanes repaired following crack findings in accordance with the instructions of Airbus SB A300-53-0297 or SB A300-57-6053 at any revision, as applicable, cracks can re-initiate.

For the reasons described above, this [EASA] AD requires repetitive inspections of the FR 40 forward fitting for aeroplanes repaired in accordance with the instructions of Airbus SB A300-53-0297 or SB A300-57-6053 following crack findings.

The corrective actions include a repair using a method approved by the Manager, International Branch, ANM-116, Transport Airplane Directorate, FAA; or the European Aviation Safety Agency (EASA); or Airbus's EASA Design Organization Approval (DOA).

You may examine the MCAI in the AD docket on the Internet at http://www.regulations.gov by searching for and locating Docket No. FAA-2015-0084.

Relevant Service Information Under 1 CFR Part 51

We reviewed the following Airbus service information:

• Airbus A300 Alert Operators Transmission (AOT) A53W002-14, dated April 02, 2014.

• Airbus A300 AOT A57W003-14, Revision 01, dated April 17, 2014.

Airbus A300 Alert Operators Transmission (AOT) A53W002-14, dated April 02, 2014, describes procedures for repetitive inspections of the FR40 forward fitting on A300 aircraft post MOD 10453S20571. Airbus A300 AOT A57W003-14, Revision 01, dated April 17, 2014, describes procedures for repetitive inspections of the FR40 forward fitting on A300-600 aircraft pre MOD 10221S20394 and post MOD 10453S20571. The actions described in this service information are intended to correct the unsafe condition identified in the MCAI. This service information is reasonably available; see ADDRESSES for ways to access this service information.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 26 airplanes of U.S. registry.

We also estimate that it would take about 3 work-hours per product to comply with the basic requirements of this proposed AD. The average labor rate is $85 per work-hour. Based on these figures, we estimate the cost of this proposed AD on U.S. operators to be $6,630, or $255 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2015-0084; Directorate Identifier 2014-NM-181-AD.

(a) Comments Due Date

We must receive comments by March 30, 2015.

(b) Affected ADs

None

(c) Applicability

(1) This AD applies to the airplanes identified in paragraphs (c)(1)(i) and (c)(1)(ii) of this AD, certificated in any category.

(i) Airbus Model A300 B4-2C, B4-103, and B4-203 airplanes, all manufacturer serial numbers (MSN), on which modification 10453 has been embodied as a repair following a crack finding, as specified in Airbus Service Bulletin A300-53-0297 (modification 10453).

(ii) Airbus Model A300 B4-601, B4-603, B4-620, B4-622, B4-605R, and B4-622R airplanes, all MSN as specified in Airbus Service Bulletin A300-57-6053.

(2) This AD does not apply to airplanes that have been modified, as a preventive measure, as specified in Airbus Service Bulletin A300-53-0297 or A300-57-6053 (modification 10453), as applicable to airplane model.

(d) Subject

Air Transport Association (ATA) of America Code 53, Fuselage.

(e) Reason

This AD was prompted by reports indicating that, on airplanes that received a certain repair following crack findings, cracks can re-initiate. We are issuing this AD to detect and correct cracking on the frame (FR) 40 forward fittings, which could result in rupture of the forward fittings and reduction of in-flight structural strength.

(f) Compliance

Comply with this AD within the compliance times specified, unless already done.

(g) Repetitive Inspections

Within 300 flight cycles after the effective date of this AD, do a detailed inspection of the forward fitting at FR 40 without nut removal to detect cracks on both left-hand and right-hand sides of the airplane, in accordance with Airbus A300 Alert Operators Transmission (AOT) A53W002-14, dated April 2, 2014 (for Airbus Model A300 B4-2C, B4-103, and B4-203 airplanes); or Airbus A300AOT A57W003-14, Revision 01, dated April 17, 2014 (for Airbus Model A300 B4-600 series airplanes, and Airbus Model A300 B4-600R series airplanes); as applicable. If any crack is detected, repair before further flight using a method approved by the Manager, International Branch, ANM-116, Transport Airplane Directorate, FAA; or the European Aviation Safety Agency (EASA); or Airbus's EASA Design Organization Approval (DOA). Repeat the inspection thereafter at intervals not to exceed 300 flight cycles.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(i) Related Information

(1) Refer to Mandatory Continuing Airworthiness Information (MCAI) EASA Airworthiness Directive 2014-0199, dated September 5, 2014, for related information. This MCAI may be found in the AD docket on the Internet at http://www.regulations.gov by searching for and locating Docket No. FAA-2015-0084.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on January 30, 2015.
Jeffrey E. Duven,
Manager, Transport Airplane Directorate, Aircraft Certification Service.

[FR Doc. 2015-02535 Filed 2-12-15; 8:45 am]

BILLING CODE 4910-13-P